DEPARTMENT OF AGRICULTURE

Forest Service

Travel Plan Revision, Caribou-Targhee National Forest

AGENCY: Forest Service, USDA.

ACTION: Extension of the comment period on the Draft Environmental Impact Statement.

SUMMARY: On April 1, 2005 the Notice of Availability of the Draft EIS for the Caribou Travel Plan Revision was published in the Federal Register (70 FR 16815). Some interested parties have requested that the comment period be extended so they can provide more substantive comments. The Forest Supervisor has agreed to extend the comment period on the Draft EIS for an additional 11 days.

DATES: Comments on the Draft EIS will be accepted through May 27, 2005.

ADDRESSES: Send correspondence to Deb Tiller, Caribou Travel Plan Revision, Caribou-Targhee National Forest, 1405 Hollipark Drive, Idaho Falls, Idaho 83401.

FOR FURTHER INFORMATION CONTACT: Deb Tiller, Team Leader or Jerry Reese, Forest Supervisor, Caribou-Targhee National Forest, Telephone: (208) 524-7500.

Dated: April 26, 2005.
Carol Lyle,
Branch Chief, Caribou-Targhee National Forest, Intermountain Region, USDA Forest Service.

[FR Doc. 05-8649 Filed 5-2-05; 8:45 am]

BILLING CODE 3410-11-M